DEPARTMENT OF TRANSPORTATION

Federal Aviation Administration

31st Meeting: RTCA Special Committee 206, Aeronautical Information and Meteorological Data Link Services

AGENCY: Federal Aviation Administration (FAA), U.S. Department of Transportation (DOT).

ACTION: Meeting notice of RTCA Special Committee 206, Aeronautical Information and Meteorological Data Link Services.

SUMMARY: The FAA is issuing this notice to advise the public of the thirty-first meeting of the RTCA Special Committee 206, Aeronautical Information and Meteorological Data Link Services.

DATES: The meeting will be held October 22-26, 2012 from 8:30 a.m.-5 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 206. The agenda will include the following:

Monday, October 22

9 a.m. Opening Plenary

• Chairmen's remarks and host's comments

• Attendees' Introductions

• Approval of previous meeting minutes

• Review and approve meeting agenda

• Action item review

• Sub-Group (SG1—Wake OSED, SG3—Architecture, SG4—DO-252 revision, SG5/6—MOPS/MAPS) status and week's plan

• Industry Presentations:

• VDB Data Link

• System Architecture(s)

• AAtS Implementation Guidance Document

• New Capabilities in Flight Services

1 p.m. Opening Plenary (continue after lunch)

• FAA Presentations:

• Category 1 End-to-End Performance Metrics paper

• Human Factors Product Evaluation paper

• Data Link Services Quality Sampling paper

• Product Compendium

• DQR Working paper

3:45 p.m. SG1/3, SG4, SG5, and SG6 meetings

October 23-25: Tuesday-Thursday

8:30 a.m. SG1/3, SG4, SG5, and SG6 meetings

26 October 23—Friday

8:30 a.m. Closing Plenary

• Sub-Group reports (SG1/3, 4, 5 & 6)

• Industry Presentations:

• ARINC Project Papers 830/839

• RTCA SC-223 AeroMACS

• Industry Coordination

• Action item review

• Future meeting plans and dates

• Other business

• 1 p.m. Adjourn (no lunch break) Welcome and Administrative Remarks

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 13, 2012.
David Sicard,
Manager, Business Operations Group, Federal Aviation Administration.

[FR Doc. 2012-23113 Filed 9-18-12; 8:45 am]

BILLING CODE 4910-13-P